FEDERAL COMMUNICATIONS COMMISSION

Public Information Collections Approved by Office of Management and Budget

September 12, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0921.

Expiration Date: 08/31/2003.

Title: Petitions for LATA Boundary Modification for the Deployment of Advanced Services.

Form No.: N/A.

Respondents: Business or other for-profit.

Estimated Annual Burden: 20 respondents; 8 hours per response (avg.).; 160 total annual burden hours.

Estimated Annual Reporting and Recordkeeping Cost Burden: $0.

Frequency of Response: On occasion.

Description: Bell Operating Companies (BOCs) that petition for LATA boundary modifications to encourage the deployment of advanced services on a reasonable and timely basis are requested to include information in accordance with specified criteria outlined in CC Docket No. 98-147, released 2/11/2000 (FCC No. 00-26). In order to review requests for LATA modifications promptly and efficiently, it is necessary that BOCs provide the information specified. The criteria set forth in the order will serve to ease the petition process on BOCs by providing guidelines that will serve to narrow the scope of their petitions to the issues and facts that the Commission is primarily concerned with. In addition, the request will also expedite the petition review process by ensuring that petitioners will provide all of the information the Commission needs to properly review the requests. Obligation to respond: Required to obtain or retain benefits.

OMB Control No.: 3060-0613.

Expiration Date: August 31, 2003.

Title: Expanded Interconnection with Local Telephone Company Facilities, CC Docket No. 91-141, Transport Phase II (Third R&O).

Form No.: N/A.

Respondents: Business or other for-profit.

Estimated Annual Burden: 64 respondents; 13 hours per response (avg.).; 832 total annual burden hours.

Estimated Annual Reporting and Recordkeeping Cost Burden: $0.

Frequency of Response: On occasion.

Description: Tier 1 local exchange carriers (except NECA members) are required to make tariff filings to provide certain signalling information to interested parties so that those parties can provide tandem switching services. Tandem switching providers are required to provide certain billing information to those Tier 1 local exchange carriers. The tariffs and cost support information accompanying them are used by the FCC staff to ensure that the tariff rates are paid for, signalling information are just, reasonable, and nondiscriminatory, as sections 201 and 202 of the Communications Act of 1934, as amended, require. Without this information, the FCC would be unable to determine whether the rates for these services are just, reasonable, nondiscriminatory, and otherwise in accordance with the law. Tariffs are used by parties using signalling information to ascertain the charges and other terms and conditions applicable to these offerings. Signalling information is necessary so that parties can provide tandem switching services. Obligation to respond: Mandatory.

OMB Control No.: 3060-0742.

Expiration Date: 09/30/2003.

Title: Telephone Number Portability (47 CFR Part 52, Subpart C, Sections 52.21-52.33).

Form No.: N/A.

Respondents: Business or other for-profit.

Estimated Annual Burden: 1685 respondents; 5.48 hours per response (avg.).; 9239 total annual burden hours.

Estimated Annual Reporting and Recordkeeping Cost Burden: $0.

Frequency of Response: On occasion.

Description: 47 CFR Part 52, Subpart C implements the statutory requirement that local exchange carriers (LECs) provide number portability as set forth in Section 251 of the Telecommunications Act of 1996 (1996 Act). The Commission requires the following information:

a. Requests for long-term number portability in areas inside or outside the 100 largest MSAs: Long-term number portability must be provided by LECs and CMRS providers inside the 100 largest Metropolitan Statistical Areas (MSAs) in switches for which another carrier has made a specific request for number portability, according to the Commission's deployment schedule. After the deadline for deployment in an MSA, carriers must deploy number portability in additional switches in that MSA upon request within certain time frames. After December 31, 1998, for LECs and after November 24, 2002, for CMRS providers outside the 100 largest MSAs, the First Report and Order continues to require deployment within six months after a specific request by another telecommunications carrier. The request must specifically request long-term number portability, identify the area covered by the request, and provide a tentative date six or more months in the future when the carrier expects to need number portability in order to port prospective customers. See 47 CFR Sections 52.23(b) and 52.31(a). In a Memorandum Opinion and Order, in CC Docket No. 95-116, the Commission extended the deadline for CMRS providers to support service provider LNP in the top 100 MSAs until November 24, 2002. (Number of respondents: 210; hours per response: 3 hours; total annual burden: 630 hours).

b. Petitions to extend implementation deadline: Carriers that are unable to meet the deadlines for implementing a long-term number portability solution are required to file with the Commission at least 60 days in advance of the deadline a petition to extend the time by which implementation in its network will be completed. See 47 CFR Sections 52.23(3) and 52.31(d). (No. of respondents: 8; hours per response: 10 hours; total annual burden: 80 hours).

c. Tariffs and Cost Support: Incumbent LECs may recover their carrier-specific costs directly related to providing long-term number portability by establishing in tariffs filed with the Commission for a monthly number portability charge. See 47 CFR 52.33. Incumbent LECs are required to include many details in their cost support that are unique to the number portability proceeding pursuant to the Cost Classification Order. For instance, incumbent LECs must demonstrate that any incremental overhead costs claimed in their cost support are actually new costs incremental to and resulting from the provision of long-term number portability. (No. of respondents: 67; hours per response: 85.5 hours; total annual hours: 5728.5 hours).

d. Recordkeeping Requirement: Telecommunications carriers are required to provide information about their international and regional end-user telecommunications revenues that will enable the regional database administrator to allocate the costs of the number portability regional databases in a competitively neutral manner. See 47 CFR Sections 52.32 and 52.33. Incumbent LECs are also required to maintain records that detail both the nature and specific amount of these carrier-specific costs that are directly related to number portability, and those carrier-specific costs that are not directly related to number portability. See the Third Report and Order, CC Docket No. 95-116, released May 12, 1998. (No. of respondents: 1400; hours per response: 2 hours; total annual hour: 2800 hours).

The information collected and required by the Commission will be used to implement Section 251 of the Communications Act of 1934, as amended. Obligation to respond: Required to obtain or retain benefits.

OMB Control No.: 3060-0775.

Expiration Date: 09/30/2003.

Title: Separate Affiliate Requirement for Independent Local Exchange Carrier (LEC) Provision of International, Interexchange services (47 CFR Sections 64.1901-64.1903).

Form No.: N/A.

Respondents: Business or other for-profit.

Estimated Annual Burden: 10 respondents; 6056.3 hours per response (avg.).; 60,563 total annual burden hours.

Estimated Annual Reporting and Recordkeeping Cost Burden: $1,003,000.

Frequency of Response: Recordkeeping.

Description: In CC Dockets No. 96-149 and 96-61, the Commission imposed recordkeeping requirements on independent LECs. Independent LECs wishing to offer international, interexchange services must comply with the separate affiliate requirements of the Competitive Carrier Fifth Report and Order in order to do so. One of these requirements is that the independent LEC's international, interexchange affiliate must maintain books of account separate from such LECs' local exchange and other activities. This regulation does not require that the affiliate maintain books of account that comply with the Commission's Part 32 rules; rather, it refers to the fact that as a separate legal entity, the international, interexchange affiliate must maintain its own books of account in the ordinary course of its business. This recordkeeping requirement is used by the Commission to ensure that independent LECs providing international, interexchange services through a separate affiliate are in compliance with the Communications Act, as amended, and with Commission policies and regulations. Obligation to respond: Mandatory.

OMB Control No.: 3060-0710.

Expiration Date: August 31, 2003.

Title: Policy and Rules Concerning the Implementation of the Local Competition Provisions of the Telecommunications Act of 1996—CC Docket 96-98.

Form No.: N/A.

Respondents: Business or other for-profit.

Estimated Annual Burden: 12,250 respondents; 124.86 hours per response (avg.).; 1,529,620 total annual burden hours.

Estimated Annual Reporting and Recordkeeping Cost Burden: $0.

Frequency of Response: On occasion; Recordkeeping; Third Party Disclosure.

Description: The Commission adopted rules and regulations to implement parts of 47 USC sections 251 and 252 that affect local competition. Incumbent local exchange carriers (LECs) are required to offer interconnection, unbundled network elements, transport and termination, and wholesale rates for certain services to new entrants. Incumbent LECs must price such services at rates that are cost-based and just and reasonable and provide access to rights-of-way as well as establish reciprocal compensation arrangements for the transport and termination of telecommunications traffic.

a. Submission of Information Necessary to Reach Agreement. Parties negotiating agreements under section 252 are required to provide each other with information necessary to reach agreement. 47 USC 252(b). See also 47 CFR Sections 51.301, 51.100. (No. of respondents: 51; hours per response: 500 hours; total annual burden: 25,500 hours).

b. Submission of Agreements to the State Commission. Carriers must file interconnection agreements negotiated or arbitrated under the 1996 Act with the appropriate state commissions. Carriers must also file their existing interconnection agreements, including those with neighboring local exchange carriers (LECs), with the appropriate state commissions, according to schedules imposed by state commissions. Agreements between Class A carriers must be submitted to the state commission no later than June 30, 1997 or such earlier date as a state commission may require. Once agreements are approved by the state commission, incumbent LECs are also required to make provisions of their approved agreements available to all parties. 47 USC 252(e)(1), 252(i). See also 47 CFR Sections 51.100, 51.3, 51.303. (No. of respondents: 551; hours per response: 1.5 hours (avg.).; total annual burden: 835 hours).

c. Burden of Proof Regarding Interconnection and Access to Unbundled Network Elements. An incumbent LEC may be required to provide information to state commissions to prove that a particular interconnection or access point to unbundled network elements is not technically feasible. An incumbent LEC that denies a request to combine network elements must prove by clear and convincing evidence that the requested combination is not technically feasible or that the requested combination would impair the ability of other carriers to interconnect or to access unbundled network elements. 47 USC 251(c)(2), (c)(3). See also CFR Sections 51.305, 51.323. (No. of respondents: 100; hours per response: 250 hours; total annual burden: 25,000 hours).

d. Collocation. When an incumbent LEC alleges that there are space constraints, it must provide the state commission with detailed floor plans or diagrams of those premises. When an incumbent LEC objects to collocation of equipment by a telecommunications carrier, the incumbent LEC bears the burden of demonstrating to the state commission that the equipment will not be actually used for the purpose of obtaining interconnection or gaining access to unbundled network elements. An incumbent LEC providing collocation must permit interconnection of copper or coaxial cable if such interconnection is first approved by the state commission. 47 USC 251(c)(6). See also 47 CFR Sections 51.321, 51.323. (No. of respondents: 100; hours per response: 25 hours; total annual burden: 25,000 hours).

e. Notification that a State Commission Has Failed to Act. Any interested party seeking preemption of a state commission's jurisdiction based on the state commission's failure to act shall notify the Commission as follows: (1) file with the Secretary of the Commission a detailed petition, supported by an affidavit, that states with specificity the basis for any claim that it has failed to act; (2) serve the state commission and other parties to the proceeding on the same day that the party serves the petition on the Commission; and (3) within 15 days of the filing of the petition, the state commission and parties to the proceeding may file a response to the petition. 47 USC 252(e). See also 47 CFR Section 51.803. (No. of respondents: 30; hours per response: 1 hour; total annual burden: 30 hours).

f. Rural and Small Carriers. Rural and small carriers may have to submit information to state commissions in order to (1) justify a continued exemption under section 251(f)(1) once a bona fide request has been made; and (2) petition a state commission for a suspension or modification of the Act's requirements under section 251(f)(2). 47 USC 251(f). See also 47 CFR Section 51.403. (No. of respondents: 500 hours; hours per response: 10 hours; total annual burden: 5000 hours).

g. Pole Attachment Modifications. Absent a private agreement establishing notification procedures, utilities must provide no less than 60 days' written notification of a modification of a pole attachment to parties holding attachments on the facility to be modified. Notice should be sufficiently specific to apprise the recipient of the nature and scope of the planned modification. If the contemplated modification involves an emergency situation for which advanced written notice would prove impractical, the notice requirement does not apply, except that notice should be given as soon as reasonably practicable, which in some cases may be after the modification is completed. This requirement does not apply to routine pole maintenance activities. Utilities and parties with attachments should exchange maintenance handbooks or other written descriptions of their standard maintenance practices. Changes to these practices should be made only upon 60 days' written notice. 47 USC § 224(h). See also 47 CFR Section 1.1403. (No. of respondents: 12,250; hours per response: .50 hours; total annual burden: 531,125 hours).

h. Pole Attachment Access Requests and Denials of Access. The Commission adopts procedures to provide a complete record of pole access requests and denials of requests. Therefore, cable operators and telecommunications carriers must provide written requests for access to utilities. If access is not granted within 45 days of the request, the utility must confirm the denial in writing by the 45th day. The denial must be specific, and the utility must include all relevant evidence supporting its denial. It must enumerate how the evidence relates to one of the reasons that access can be denied under Section 224(f)(2), i.e., lack of capacity, safety, reliability or engineering standards. 47 USC 224(f), 251(b)(4). See also CFR Section 1.1403. (No. of respondents: 2750; hours per response: 1.18 hours (avg.).; total annual burden: 3250 hours).

i. Dispute Resolution Process for Denials of Access. Upon the receipt of a notice of denial from the utility, the requesting party shall have 60 days to file its complaint with the Commission. We anticipate that by following the required procedure for denials of access, the Commission will, upon receipt of a complaint, have all relevant information upon which to make its decision. The petition must be served pursuant to Section 1.1404(b) of the Commission's rules. 47 USC 224(f), 251(b)(4). See also CFR Sections 1.1403, 1.1404. (No. of respondents: 500; hours per response: 14.5 hours; total annual burden: 7250 hours).

j. Preparation of Forward-Looking Economic Cost Studies to Determine Rates for Interconnection and Unbundled Network Elements during Arbitration Proceedings. States may prepare themselves, or require parties to prepare, forward-looking economic cost studies to determine rates for unbundled elements during arbitration proceedings. 47 U.S.C. 251(c)(2), (c)(3), (c)(6), 252(d)(1). See also 47 CFR Section 51.505. (No. of respondents: 100; hours per response: 1216 hours; total annual burden: 121,600 hours).

k. Preparation of a Cost Study on Avoidable Costs to Determine Resale Discounts. States may prepare themselves, or require parties to prepare, avoided cost studies to determine resale discounts. Initially, a state may choose a percentage within the Commission's default discount percentage range, or set a discount through review of an avoided cost study prepared by a state or a party. A state that chooses to employ the Commission's default discount percentage range must articulate a reason for its choice, and must set a resale discount through review of an avoided cost study within a reasonable time after choosing the default percentage. 47 U.S.C. 251(c)(4), 252(d)(3). See also 47 CFR Sections 51.609, 51.611. (No. of respondents: 200; hours per response: 480 hours; total annual burden: 96,000 hours).

l. Preparation of Forward-Looking Economic Cost Studies Conducted to Determine Reciprocal Rates for Transport and Termination of Telecommunications Traffic. Parties may prepare forward-looking economic cost studies to demonstrate their costs incurred for the transport and termination of telecommunications traffic. 47 U.S.C. 251(b)(5), 252(d)(2). See also 47 CFR Sections 51.505, 51.511, 51.705. (No. of respondents: 100; hours per response: 1216 hours; total annual burden: 121,600 hours).

m. Measurement of Traffic for Purposes of Determining Whether Transport and Termination Traffic Flows are Symmetrical. Parties will measure traffic flow to determine their reciprocal compensation payment obligations. Those parties regulated under a bill-and-keep arrangement may wish to measure relative traffic flow to determine whether it is roughly balanced. 47 U.S.C. 251(b)(5), 252(d)(2). See also 47 CFR Sections 51.713, 51.703, 51.705. (No. of respondents: 550; hours per response: 700 hours; total annual burden: 385,000 hours).

n. Filing Required for Arbitration. Parties must provide documentation to states (or the Commission acting under 252(e)(5)) when arbitration is to occur. This information will consist of a statement of unresolved issues and the positions of the parties with respect to those issues, and a list of other issues discussed and resolved by the parties. 47 U.S.C. 252(b)(2).

See also 47 CFR Section 51.807. (No. of respondents: 200; hours per respondent: 2 hours; total burden: 400 hours).

o. Determination of Rates for Interconnection, Unbundled Network Elements, and Transport and Termination of Telecommunications Traffic—State Commission Review of Forward-Looking Economic Cost Studies. The statute provides that during an arbitration the state commission shall set prices for interconnection, unbundled network elements, and transport and termination of telecommunications traffic. The state commission sets such prices either through review of a forward-looking economic cost study, or by choosing one of the Commission's proxies. 47 U.S.C. 251(b), (c)(2), (c)(3), (c)(6), 252(d)(1). See also 47 CFR Section 51.507, 51.503, 51.505. (No. of respondents: 50; hours per response: 2160 hours; total annual burden: 108,000 hours).

p. Determination of Resale Discount Percentage—State Commission Review of Avoided Cost Studies. The statute provides that during an arbitration, the state commission shall set the percentage discount for resale of telecommunications services. Initially, a state may choose a discount percentage within the Commission's default discount percentage range, or set a discount through review of an avoided cost study prepared by a state or a party. A state that chooses to employ the Commission's default discount percentage range must set a resale discount through review of an avoided cost study within a reasonable time after choosing the default percentage. 47 U.S.C. 251(c)(4), 252(d)(3). See also 47 CFR Section 51.611. (No. of respondents: 50; hours per response: 640 hours; total annual burden: 32,000 hours).

q. Petition for Incumbent LEC Status. A state commission, or any other interested party, may request that the Commission issue an order declaring that a particular LEC be treated as an incumbent LEC, or that a class or category of LECs be treated as incumbent LECs. 47 U.S.C. 251(h)(2). (No. of respondents: 30; hours per response: 1 hour; total annual burden: 30 hours).

r. Use of Proxies by State Commissions—Articulating Written Reasons for Choice. State commissions may set rates for interconnection, unbundled network elements, transport and termination of telecommunications traffic, and resale utilizing a proxy or default percentage as an alternative to conducting or reviewing a cost study. In the First Order on Reconsideration, the Commission created a proxy to assist state commissions in setting rates for the flat-rated component of the local switching network element. If a state commission chooses this option, it must articulate written reasons for its choice. 47 USC 251(b)(5), (c)(2), (c)(3), (c)(4), (c)(6), 252(d)(1), (d)(2), (d)(3). See also 47 CFR Sections 51.503, 51.505. (No. of respondents: 50; hours per response: 120 hours; total annual burden: 6000 hours).

s. Preparation of Forward-looking Economic Cost Studies to Establish Rates for Transport and Termination for Paging and Radiotelephone Service, Narrowband Personal Communications Services, and Paging Operations in the Private Land Mobile Radio Services. A state commission shall establish the rates that licensees in the Paging and Radiotelephone Service, Narrowband Personal Communications Services, and Paging Operations in the Private Land Mobile Radio Services may charge to other carriers for transport and termination of traffic, to the extent these carriers are unable to reach agreement on transport and termination rates in their interconnection agreements. Such rates must be based on forward-looking economic costs, and may not be set utilizing a proxy. Given the lack of information in the record concerning paging providers' costs, the Commission was unable to set a proxy for transport and termination rates for use by these carriers. 47 U.S.C. 251(b)(5). See also 47 CFR Sections 20.11, 51.505, 51.513. (No. of respondents: 50; hours per response: 720 hours; total annual burden: 36,000 hours). All of the requirements would be used to ensure that respondents comply with their obligations under the Telecommunications Act of 1996. Obligation to respond: Mandatory.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-24027 Filed 9-18-00; 8:45 am]

BILLING CODE 6712-01-P